ENVIRONMENTAL PROTECTION AGENCY

[FRL-6544-1]

Prospective Purchaser Agreement for Resolution of CERCLA Past Costs

AGENCY: U.S. Environmental Protection Agency (U.S. EPA).

ACTION: Notice; proposed CERCLA prospective purchaser agreement.

SUMMARY: U.S. EPA is proposing to execute a Prospective Purchaser agreement (PPA) under section 122 of CERCLA (and pursuant to the inherent authority of the Attorney General of the United States) for the arranged transfer of title of the Gary Lagoons Superfund Site property from a Potentially Responsible Party (PRP) Conant Land Limited (Conant) to the Indiana Department of Natural Resources (IDNR). In return for a covenant not to sue and contribution protection from U.S. EPA, and a covenant not to sue for federal and state Natural Resource Damages claims from the U.S. Department of the Interior (DOI) and the State of Indiana Department of Environmental Management (IDEM), IDNR will commit to maintaining the Site property in its pristine natural Dune and Swale ecological condition. U.S. EPA is today proposing to accept this arrangement because it forwards the Agency's public policy of protecting human health and the environment, and through the use of a PPA, it allows the State of Indiana to take control of the Site property for the public good. U.S. EPA will resolve outstanding costs of approximately $4,031,000 dollars, as against IDNR.

DATES: Comments on this proposed settlement must be received on or before March 30, 2000.

ADDRESSES: Copies of the proposed settlement are available at the following address for review. (It is recommended that you telephone Mr. Derrick Kimbough at (312) 886-9749 before visiting the Region V Office). Mr. Derrick Kimbrough, OPA (P19-J), Coordinator, Office of Public Affairs, U.S. Environmental Protection Agency, Region V, 77 W. Jackson Boulevard (P-19J), Chicago, Illinois 60604, (312) 886-9749.

Comments on this proposed settlement should be addressed to: (Please submit an original and three copies, if possible). Mr. Derrick Kimbrough, Coordinator, Office of Public Affairs, U.S. Environmental Protection Agency, Region V, 77 W. Jackson Boulevard (P-19J), Chicago, Illinois 60604, (312) 886-9749.

FOR FURTHER INFORMATION CONTACT: Mr. Derrick Kimbrough, Office of Public Affairs, at (312) 886-9749.

SUPPLEMENTARY INFORMATION: The Site is a 7-acre vacant property located at 5622 and 5624-34 Industrial Highway in Gary, Indiana (Lake County). The Site consisted of two unlined and uncovered lagoons situated in a sandy environment and surrounded by marshes and wetlands. Pursuant to the terms of the prospective Purchaser Agreement, the Prospective Purchaser (IDNR) will receive this site free of CERCLA liability and Federal or State Natural Resource Damages claims, and EPA will release the federal CERCLA Lien currently placed on the site property. A 30-day period, beginning on the date of publication, is open pursuant to section 122(1) of CERCLA for comments on the proposed prospective Purchaser Agreement. Comments should be sent to Mr. Derrick Kimbrough of the Office of Public Affairs (P-19J), U.S. Environmental Protection Agency, Region 5, 77 W. Jackson Boulevard, Chicago, Illinois 60604.

William E. Muno,
Director, Superfund Division.

[FR Doc. 00-4780 Filed 2-28-00; 8:45 am]

BILLING CODE 6560-50-M